DEPARTMENT OF ENERGY

Federal Energy Regulatory Commission

18 CFR Part 281

Natural Gas Curtailment Under the Natural Gas Policy Act of 1978

CFR Correction

In Title 18 of the Code of Federal Regulations, parts 1 to 399, revised as of April 1, 2015, on page 810, in § 281.204, in paragraph (a), in the first sentence and in the last sentence, remove the term “sheets” and add in its place the term “sheets or sections”.

[FR Doc. 2016-07548 Filed 3-31-16; 8:45 am]

BILLING CODE 1505-01-D